DEPARTMENT OF HEALTH AND HUMAN SERVICES

National Institutes of Health

Center for Scientific Review, Amended Notice of Meeting

Notice is hereby given of a change in the meeting of the Biomaterials and Biointerfaces Study Section, October 03, 2013, 08:00 a.m. to October 04, 2013, 04:00 p.m., Residence Inn Arlington Capitol View, 2850 South Potomac Avenue, Arlington, VA 22202 which was published in the Federal Register on September 09, 2013, 78 FR 174 Pgs. 55086-55087.

The meeting will be held at the Westin St. Francis Union Square, 335 Powell Street, San Francisco, CA 94102. The meeting will start on December 13, 2013 at 7:00 p.m. and end December 14, 2013 at 5:00 p.m. The meeting is closed to the public.

Dated: November 1, 2013.
Anna Snouffer,
Deputy Director, Office of Federal Advisory Committee Policy.

[FR Doc. 2013-26766 Filed 11-7-13; 8:45 am]

BILLING CODE 4140-01-P